DEPARTMENT OF AGRICULTURE

Foreign Agricultural Service

Notice of Request for Revision of a Currently Approved Information Collection

AGENCY: Foreign Agricultural Service, USDA.

ACTION: Notice and request for comments.

SUMMARY: In accordance with the Paperwork Reduction Act of 1995, this notice announces that the Foreign Agricultural Service (FAS) intends to request a renewal and revision of a currently approved information collection process used in support of Exporter Assistance programs. The renewal and revision are based on estimates of the public burden set forth in the abstract.

DATES: Comments on this notice must be received by February 21, 2012 to be assured of consideration.

Requests for Comments: Send comments regarding (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of automated electronic, mechanical, or other technological collection techniques or other forms of information technology. Comments and questions regarding the Export Assistance Programs registration forms, surveys, and qualification criteria should be sent to: Maria Nemeth-Ek, Deputy Director, Trade Services Staff, Office of Trade Programs, Foreign Agricultural Service, U.S. Department of Agriculture, 1400 Independence Avenue SW., Stop 1020, Washington, DC 20250-1020. All written comments received will be available for public inspection at the above address during business hours from 8 a.m. to 5 p.m.

FOR FURTHER INFORMAITON CONTACT: Maria Nemeth-Ek at the address stated above or telephone (202) 720-9516, or by email at: Maria Nemeth-EK@fas.usda.gov.

SUPPLEMENTARY INFORMATION: Title: Export Services.

OMB Number: 0551-0031.

Expiration Date of Approval: March 31, 2012.

Type of Request: Renewal and revision of a currently approved information collection process.

Abstract: FAS is renewing and revising the information collected under its Export Services programs. FAS is revising five of the nine forms in this information collection submission. The first revised form is the Foreign Buyers' List order form used by U.S. companies to request information on foreign buyers of food and agricultural products by country. FAS is revising this form to reflect the new organizational structure in USDA/FAS and to simplify the format of the request. The Foreign Buyers List provides information on over 20,000 buyers in more than 25 countries who specialize in the importation and distribution of U.S. products in their country. Specific program and form information is available at: http://www.fas.usda.gov/agx/buying_us/foreign_buyers_exporters.asp.

FAS is also revising the customer service survey form used to collect information from participants of USDA/FAS endorsed trade shows. FAS will revise this form to effectively capture information in a more concise manner and update contact information for the offices responsible for managing the trade show program. Each year a certain number of trade shows in the best prospective markets are selected to be endorsed by USDA/FAS and host a U.S.A. pavilion for U.S. companies to promote their products to buyers. A list of USDA endorsed shows is available at: http://www.fas.usda.gov/agx/trade_events/trade_events.asp. Customer service surveys are collected by FAS to improve the effectiveness of USDA/FAS services. This information is necessary to manage, plan, and evaluate the effectiveness of these services, which are intended to help U.S. companies market and sell their products overseas.

The remaining three forms in this collection to be renewed (the U.S. Supplier Registration form, the Madigan Export Award form, and the Exporter Directory Registration form) will be revised only to reflect the new organizational structure of USDA/FAS and update the contact information of the offices responsible for managing these programs.

Four forms in this submission are no longer used and will not be renewed. These forms are the Foreign Buyer Registration form, the Exporter Directory Evaluation form, the Registration/Application Form for the American Café, and the Sample Registration Form for Trade Events/American Café.

Due to the discontinuation of four forms in this information collection package and the minor structural and material adjustments that will be requested for the other five forms in this collection, the annual burden in hours for this collection is reduced by more than fifty percent from the previous submission for renewal in 2008.

Estimate of Burden: The burden to U.S. exporters is estimated to average 0.25 hours per response.

Respondents: U.S. agricultural exporters of food, farm, and forest products.

Estimated Number of Respondents: 1,500 per annum.

Estimated Number of Responses per Respondent: 4 per annum.

Estimated Total Annual Burden of Respondents: 1,500 hours per annum.

Copies of this information collection can be obtained from Tamoria Thompson-Hall, the Agency Information Collection Coordinator, at (202) 690-1690.

All responses to this notice will be summarized and included in the request for OMB approval. All comments will also become a matter of public record. Persons with disabilities who require an alternative means to communicate information (Braille, large print, audiotape, etc.) should contact USDA's Target Center at (202) 720-2600 (voice and TDD).

Dated: December 12, 2011.
Suzanne E. Heinen,
Acting Administrator, Foreign Agricultural Service.

[FR Doc. 2011-32924 Filed 12-22-11; 8:45 am]

BILLING CODE 3410-10-P